DEPARTMENT OF THE TREASURY

Privacy Act of 1974; Department of the Treasury, Bureau of Engraving and Printing (BEP) -.051—BEP Chief Counsel Files System of Records

AGENCY: Bureau of Engraving and Printing (BEP), Treasury.

ACTION: Notice of Privacy Act system of records.

SUMMARY: In accordance with the Privacy Act of 1974, as amended, 5 U.S.C. 552a the U.S. Department of the Treasury (“Treasury” or the “Department”), Bureau of Engraving and Printing (“BEP”) proposes to establish a new Department of the Treasury system of records titled, “Department of the Treasury, Bureau of Engraving and Printing (BEP)-.051—BEP Chief Counsel Files System of Records.”

DATES: Submit comments on or before December 5, 2016. This new system will be effective December 5, 2016.

ADDRESSES: Comments should be sent to Leslie J. Rivera-Pagán, Attorney/Adviser—Privacy Officer, Office of the Chief Counsel-Privacy Office, U.S. Department of the Treasury, Bureau of Engraving and Printing, Room 419-A, 14th & C Streets SW., Washington, DC 20228, Attention: Revisions to Privacy Act Systems of Records. Comments can also be faxed to (202) 874-2951 or emailed to Leslie.Rivera-Pagan@bep.gov. For faxes and emails, please place “Revisions to SORN Treasury/BEP .051—BEP Chief Counsel Files” in the subject line. Comments will be made available for public inspection upon written request. The BEP will make such comments available for public inspection and copying at the above listed location, on official business days between 9:00 a.m. and 5:00 p.m. eastern time. Persons wishing to review the comments must request an appointment by telephoning (202) 874-2500. All comments received, including attachments and other supporting documents, are part of the public record and subject to public disclosure. You should submit only information that you wish to make available publicly. All comments received will be posted without change to http://www.regulations.gov, including any personal information provided.

FOR FURTHER INFORMATION CONTACT: For general questions and privacy issues please contact: Leslie J. Rivera-Pagán at (202) 874-2500 or Leslie.Rivera-Pagan@bep.gov.

SUPPLEMENTARY INFORMATION: In accordance with the Privacy Act of 1974, 5 U.S.C. 552a, the U.S. Department of the Treasury (Treasury), Bureau of Engraving and Printing (“BEP”) proposes to establish a new Treasury system of records titled, “Treasury/Bureau of Engraving and Printing (BEP)-.051—BEP Chief Counsel Files System of Records.”

The Secretary of the Treasury has delegated final legal authority within Treasury to the General Counsel, who is charged to determine the structural and functional organization of the Legal Division and to establish the policies, procedures, and standards governing its functioning. The mission of the Office of the Chief Counsel of the Bureau of Engraving and Printing (“BEP”) is to provide legal advice or representation to BEP management regarding issues of compliance, investigation, and implementation of matters related to the BEP and the statutes and regulations administered by the BEP. The purpose of this system is to assist BEP attorneys in providing legal advice to BEP management on a wide variety of legal issues. In addition, the system will assist to assess the workload of the legal staff, track the status, progress, and disposition of matters assigned to the legal staff in matters such as litigation and/or administrative proceedings in which BEP is a party, and matters in which the Office of the Chief Counsel must provide advice.

The Office of the Chief Counsel is responsible for collecting, reviewing, redacting, and producing agency records, in support of processing and resolving BEP legal matters. This system has an effect on individual privacy that is balanced by the need to collect and maintain information related to legal advice issued.

Routine uses contained in this notice include sharing with the Department of Justice (DOJ) for legal advice and representation; to a congressional office at the request of an individual; to unions recognized as exclusive bargaining representatives to the extent necessary to obtain information pertinent to an investigation or matter under consideration; to federal, state, local, or foreign agencies, or other public authority agencies responsible for investigating or prosecuting the violations of, or for enforcing, or implementing, a statute, rule, regulation, order, or license, where the disclosing agency becomes aware of a potential violation of civil, administrative, or criminal law, or regulation; to federal, state, local, or other public authority agency maintaining civil, criminal, administrative or other relevant enforcement information or other pertinent information, which has requested information relevant to, or necessary to, the requesting agency's, bureau's, or authority's hiring or retention of an individual, or issuance of a security clearance, license, contract, grant, or other benefit; to a court, adjudicative body, or other administrative body before which BEP is authorized to appear when (a) the agency, or (b) any employee of the agency in his or her official capacity, or (c) any employee of the agency in his or her individual capacity where the Department of Justice or the agency has agreed to represent the employee, or (d) the United States, when the agency determines that litigation is likely to affect the agency, is a party to litigation or has an interest in such litigation, and the use of such records by the agency is deemed to be relevant and necessary to the litigation or administrative proceeding and not otherwise privileged; to a court, magistrate, administrative tribunal, or named parties in the course of presenting evidence, including disclosures to opposing counsel or witnesses in the course of civil discovery, litigation, or settlement negotiations or in connection with criminal law proceedings or in response to a court order where arguably relevant to a proceeding; to an arbitrator, mediator, or other neutral party, in the context of alternative dispute resolution, to the extent relevant and necessary for resolution of the matters presented, including asserted privileges; and to agencies, entities, or persons during a security or information compromise or breach.

This newly established system will be included in Treasury's inventory of record systems.

Below is the description of the Treasury/Bureau of Engraving and Printing (BEP)-.051—BEP Chief Counsel Files System of Records.” In accordance with 5 U.S.C. 552a(r), Treasury has provided a report of this system of records to the Office of Management and Budget and to Congress.

Ryan Law,
Acting Deputy Assistant Secretary for Privacy, Transparency, and Records Designee.

System of Records

Department of the Treasury (Treasury)/Bureau of Engraving and Printing (BEP)-.051

System name:

Treasury/BEP-.051 BEP Chief Counsel Files

System location:

Bureau of Engraving and Printing, Office of the Chief Counsel, District of Columbia Facility, 14th & C Streets SW., Room 419-A, Washington, DC 20028 and Western Currency Facility, 9000 Blue Mound Road, Fort Worth, TX 76131.

Categories of individuals covered by the system:

Employees and former employees of the Bureau of Engraving and Printing, applicants for employment, adjudicators and legal counsel or other representatives, parties to and persons who have requested information or action from the Office of the Chief Counsel, who are involved in litigations, actions, personnel matters, administrative claims, administrative appeals, complaints, grievances, advisories, and other matters assigned to, or under the jurisdiction of the Office of the Chief Counsel, and employees of the Office of the Chief Counsel.

Categories of records in the system:

• Names, titles, and contact information of the parties and individuals involved, including phone and fax numbers, home and business addresses, and email addresses;

• Case management documents, case and/or matter names, and case and/or matter identification numbers;

• Information and documents relating to grievances, adverse personnel actions, discrimination complaints, and other information and documents related to administrative proceedings;

• Memoranda and litigation related materials including attorney work product;

• Descriptions, summaries, and statuses of issues, cases and/or matters, and assignments;

• Complaints;

• Claim forms;

• Reports of Investigations;

• Accident reports;

• Witness statements and affidavits;

• Pleadings;

• Discovery materials generated in connection with litigation and/or administrative actions;

• Correspondence;

• Administrative files;

• Other records collected or generated in response to matters assigned to the Office of the Chief Counsel.

Authority for maintenance of the system:

5 U.S.C. 301, 5520a, 7301, 7351, 7353, 5 U.S.C. App. (Ethics in Government Act of 1978); 28 U.S.C. 2672; 31 U.S.C. 301, 321, 1353, 3721; 42 U.S.C. 659; 44 U.S.C. 3101.

Purpose(s):

The Office of the Chief Counsel creates and maintains these records to provide legal advice or representation to BEP management regarding issues of compliance, investigation, and implementation of matters related to the BEP and the statutes and regulations administered by the BEP and to maintain historical reference information pertaining to such matters. In addition, the system of records is used to assess the workload of the legal staff, track the status, progress, and disposition of matters assigned to the legal staff, and capture summary information (such as name of principal parties or subjects, case file numbers, and assignments) in matters such as litigation and/or administrative proceedings in which the BEP is a party, and matters in which the Office of the Chief Counsel must provide advice.

Routine uses of records maintained in the system, including categories of users and the purposes of such uses:

In addition to those disclosures generally permitted under 5 U.S.C. 552a(b) of the Privacy Act, all or a portion of the records or information contained in this system may be disclosed outside Treasury/BEP as a routine use pursuant to 5 U.S.C. 552a(b)(3) as follows:

(1) Appropriate federal, state, local, or foreign agencies, or other public authority agencies responsible for investigating or prosecuting the violations of, or for enforcing, or implementing, a statute, rule, regulation, order, or license, where the disclosing agency becomes aware of a potential violation of civil, administrative, or criminal law, or regulation;

(2) To federal, state, local, or other public authority agency maintaining civil, criminal, administrative or other relevant enforcement information or other pertinent information, which has requested information relevant to, or necessary to, the requesting agency's, bureau's, or authority's hiring or retention of an individual, or issuance of a security clearance, license, contract, grant, or other benefit;

(3) To a court, adjudicative body, or other administrative body before which BEP is authorized to appear when (a) the agency, or (b) any employee of the agency in his or her official capacity, or (c) any employee of the agency in his or her individual capacity where the Department of Justice or the agency has agreed to represent the employee, or (d) the United States, when the agency determines that litigation is likely to affect the agency, is a party to litigation or has an interest in such litigation, and the use of such records by the agency is deemed to be relevant and necessary to the litigation or administrative proceeding and not otherwise privileged;

(4) To a court, magistrate, administrative tribunal, or named parties in the course of presenting evidence, including disclosures to opposing counsel or witnesses in the course of civil discovery, litigation, or settlement negotiations or in connection with criminal law proceedings or in response to a court order where arguably relevant to a proceeding;

(5) To an arbitrator, mediator, or other neutral party, in the context of alternative dispute resolution, to the extent relevant and necessary for resolution of the matters presented, including asserted privileges;

(6) The U.S. Department of Justice (“DOJ”) for its use in providing legal advice to the BEP or in representing the BEP in a proceeding before a court, adjudicative body, or other administrative body before which the BEP is authorized to appear, where the BEP deems DOJ's use of such information relevant and necessary to the litigation, and such proceeding names as a party or interests:

(a) The BEP or any component of it;

(b) Any employee of the BEP in his or her official capacity;

(c) Any employee of the BEP in his or her individual capacity where DOJ has agreed to represent the employee; or

(d) The United States, where the BEP determines that litigation is likely to affect the BEP or any of its components;

(7) Unions recognized as exclusive bargaining representatives under the Civil Service Reform Act of 1978, 5 U.S.C. 7111 and 7114 to the extent necessary to obtain information pertinent to an investigation or matter under consideration;

(8) To a congressional office in response to an inquiry made at the request of the individual to whom the record pertains;

(9) To appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored on magnetic disc, tape, or electronic records.

Retrievability:

Records are retrievable by the name of the party or individual who are subjects to, or are connected to, subject matters received by or assigned; name of the office; office file number; case number; case name; staff name; case and/or matter status; case and/or matter subject; date the case and/or matter was opened; date the case and/or matter was closed; date the case and/or matter was modified; or by keyword search.

Safeguards:

Access to electronic and paper records is limited to the Office of the Chief Counsel personnel. Paper records are maintained in locked facilities and/or cabinets with restricted access. Electronic records are restricted to authorized personnel who have been issued non-transferrable access passwords.

Retention and disposal:

Paper and electronic records are retained and disposed in accordance with the Bureau of Engraving and Printing Records Schedule, N1-318-04-3, and General Records Schedules (GRS) 1, 2.8, 4.1, 4.2, and 23, as approved by the National Archives and Records Administration.

System Manager and address:

Chief Counsel, Bureau of Engraving and Printing, Office of the Chief Counsel, District of Columbia Facility, 14th & C Streets SW., Room 419-A, Washington, DC 20028 and Western Currency Facility, 9000 Blue Mound Road, Fort Worth, TX 76131.

Notification procedure:

Individuals seeking to determine whether this system of records contains their information should address written inquiries in accordance with 31 CFR Part1 to the Disclosure Officer, Bureau of Engraving and Printing, Office of the Chief Counsel—FOIA and Transparency Services, 14th & C Streets SW., Room 419-A, Washington, DC 20228.

Record access procedures:

See “Notification procedure” above.

Contesting record procedures:

See “Notification procedure” above.

Record source categories:

The sources of the records include: (1) Existing BEP personnel and records, (2) subject of the record, (3) parties and witnesses to disputed matters of fact or law, (4) Congressional offices, and, (5) federal, state, and/or local agencies.

Exemptions claimed for the system:

None.

[FR Doc. 2016-26661 Filed 11-3-16; 8:45 am]

BILLING CODE 4840-01-P